DEPARTMENT OF COMMERCE

International Trade Administration

Antidumping or Countervailing Duty Order, Finding, or Suspended Investigation; Opportunity To Request Administrative Review

AGENCY: Import Administration, International Trade Administration, Department of Commerce.

ACTION: Notice of opportunity to request administrative review of antidumping or countervailing duty order, finding, or suspended investigation.

Background

Each year during the anniversary month of the publication of an antidumping or countervailing duty order, finding, or suspension of investigation, an interested party, as defined in section 771(9) of the Tariff Act of 1930, as amended, may request, in accordance with section 351.213 (2001) of the Department of Commerce (the Department) Regulations, that the Department conduct an administrative review of that antidumping or countervailing duty order, finding, or suspended investigation.

Opportunity to Request a Review: Not later than the last day of August 2002, interested parties may request administrative review of the following orders, findings, or suspended investigations, with anniversary dates in August for the following periods:

| Period to be reviewed
Antidumping Duty Proceeding
Argentina:
Oil Country Tubular Goods, A-357-810 | 8/1/01-7/31/02
Seamless Line and Pressure Pipe, A-357-809 | 8/1/01-7/31/02
Australia: Corrosion-Resistant Carbon Steel Flat Products, A-602-803 | 8/1/01-7/31/02
Belgium: Cut-to-Length Carbon Steel Plate, A-423-805 | 8/1/01-7/31/02
Brazil: | Cut-to-Length Carbon Steel Plate, A-351-817 | 8/1/01-7/31/02
Seamless Line and Pressure Pipe, A-351-826 | 8/1/01-7/31/02
Canada:
Corrosion-Resistant Carbon Steel Flat Products, A-122-822 | 8/1/01-7/31/02
Pure Magnesium, A-122-814 | 8/1/01-7/31/02
Czech Republic: Carbon and Alloy Seamless Standard, Line, and Pressure Pipe (Under 4½ Inches), A-851-802 | 8/1/01-7/31/02
Finland: Cut-to-Length Carbon Steel Plate, A-405-802 | 8/1/01-7/31/02
France: | Corrosion-Resistant Carbon Steel Flat Products, A-427-808 | 8/1/01-7/31/02
Industrial Nitrocellulose, A-427-009 | 8/1/01-7/31/02
Germany: | Corrosion-Resistant Carbon Steel Flat Products, A-428-815 | 8/1/01-7/31/02
Cut-to-Length Carbon Steel Plate, A-428-816 | 8/1/01-7/31/02
Seamless Line and Pressure Pipe, A-428-820 | 8/1/01-7/31/02
Italy: | Grain Oriented Electrical Steel, A-475-811 | 8/1/01-7/31/02
Oil Country Tubular Goods, A-475-816 | 8/1/01-7/31/02
Granular Polytetrafluoroethylene Resin, A-475-703 | 8/1/01-7/31/02
Japan: | Brass Sheet & Strip, A-588-704 | 8/1/01-7/31/02
Corrosion-Resistant Carbon Steel Flat Products, A-588-824 | 8/1/01-7/31/02
Oil Country Tubular Goods, A-588-835 | 8/1/01-7/31/02
Granular Polytetrafluoroethylene Resin, A-588-707 | 8/1/01-7/31/02
Tin Mill Products, A-588-854 | 8/1/01-7/31/02
Mexico: | Carbon and Alloy Seamless Standard, Line, and Pressure Pipe (Over 4½ Inches), A-201-827 | 8/1/01-7/31/02
Gray Portland Cement and Cement Clinker, A-201-802 | 8/1/01-7/31/02
Cut-to-Length Carbon Steel Plate, A-201-809 | 8/1/01-7/31/02
Oil Country Tubular Goods, A-201-817 | 8/1/01-7/31/02
Poland: Cut-to-Length Carbon Steel Plate, A-455-802 | 8/1/01-7/31/02
Republic of Korea: | Corrosion-Resistant Carbon Steel Flat Products, A-580-816 | 8/1/01-7/31/02
Oil Country Tubular Goods, A-580-825 | 8/1/01-7/31/02
Structural Steel Beams, A-580-841 | 8/1/01-7/31/02
Romania: | Carbon and Alloy Seamless Standard, Line, and Pressure Pipe (Under 4½ Inches), A-485-805 | 8/1/01-7/31/02
Cut-to-Length Carbon Steel Plate, A-485-803 | 8/1/01-7/31/02
Spain: Cut-to-Length Carbon Steel Plate, A-469-803 | 8/1/01-7/31/02
Sweden: Cut-to-Length Carbon Steel Plate, A-401-805 | 8/1/01-7/31/02
The People's Republic of China: | Petroleum Wax Candles, A-570-504 | 8/1/01-7/31/02
Sulfanilic Acid, A-570-815 | 8/1/01-7/31/02
The United Kingdom: Cut-to-Length Carbon Steel Plate, A-412-814 | 8/1/01-7/31/02
Turkey: Aspirin, A-489-602 | 8/1/01-7/31/02
Countervailing Duty Proceedings
Belgium: Cut-to-Length Carbon Steel Plate, C-423-806 | 1/1/01-12/31/01
Brazil: Cut-to-Length Carbon Steel Plate, C-351-818 | 1/1/01-12/31/01
Canada: | Pure Magnesium, C-122-815 | 1/1/01-12/31/01
Alloy Magnesium, C-122-815 | 1/1/01-12/31/01
France: | Corrosion-Resistant Carbon Steel Flat Products, C-427-810 | 1/1/01-12/31/01
Stainless Steel Sheet and Strip in Coils, C-427-815 | 1/1/01-12/31/01
Germany: | Corrosion-Resistant Carbon Steel Flat Products, C-428-817 | 1/1/01-12/31/01 | Cut-to-Length Carbon Steel Plate, C-428-817 | 1/1/01-12/31/01
Italy: | Oil Country Tubular Goods, C-475-817 | 1/1/01-12/31/01
Stainless Steel Sheet and Strip in Coils, C-425-825 | 1/1/01-12/31/01
Mexico: Cut-to-Length Carbon Steel Plate, C-201-810 | 1/1/01-12/31/01
Republic of Korea: | Corrosion-Resistant Carbon Steel Plate, C-580-818 | 1/1/01-12/31/01
Stainless Steel Sheet and Strip in Coils, C-580-835 | 1/1/01-12/31/01
Structural Steel Beams, C-580-841 | 1/1/01-12/31/01
Spain: Cut-to-Length Carbon Steel Plate, C-469-804 | 1/1/01-12/31/01
Sweden: Cut-to-Length Carbon Steel Plate, C-401-804 | 1/1/01-12/31/01
United Kingdom: Cut-to-Length Carbon Steel Plate, C-412-815 | 1/1/01-12/31/01

Suspension Agreements

None.

In accordance with section 351.213(b) of the regulations, an interested party as defined by section 771(9) of the Act may request in writing that the Secretary conduct an administrative review. For both antidumping and countervailing duty reviews, the interested party must specify the individual producers or exporters covered by an antidumping finding or an antidumping or countervailing duty order or suspension agreement for which it is requesting a review, and the requesting party must state why it desires the Secretary to review those particular producers or exporters. If the interested party intends for the Secretary to review sales of merchandise by an exporter (or a producer if that producer also exports merchandise from other suppliers) which were produced in more than one country of origin and each country of origin is subject to a separate order, then the interested party must state specifically, on an order-by-order basis, which exporter(s) the request is intended to cover.

Six copies of the request should be submitted to the Assistant Secretary for Import Administration, International Trade Administration, Room 1870, U.S. Department of Commerce, 14th Street & Constitution Avenue, NW., Washington, DC 20230. The Department also asks parties to serve a copy of their requests to the Office of Antidumping/Countervailing Enforcement, Attention: Sheila Forbes, in room 3065 of the main Commerce Building. Further, in accordance with section 351.303(f)(l)(i) of the regulations, a copy of each request must be served on every party on the Department's service list.

The Department will publish in the Federal Register a notice of “Initiation of Administrative Review of Antidumping or Countervailing Duty Order, Finding, or Suspended Investigation” for requests received by the last day of August 2002. If the Department does not receive, by the last day of August 2002, a request for review of entries covered by an order, finding, or suspended investigation listed in this notice and for the period identified above, the Department will instruct the Customs Service to assess antidumping or countervailing duties on those entries at a rate equal to the cash deposit of (or bond for) estimated antidumping or countervailing duties required on those entries at the time of entry, or withdrawal from warehouse, for consumption and to continue to collect the cash deposit previously ordered.

This notice is not required by statute but is published as a service to the international trading community.

Dated: July 30, 2002.
Holly A. Kuga,
Senior Office Director, Group II, Office 4, Import Administration.

[FR Doc. 02-19823 Filed 8-5-02; 8:45 am]

BILLING CODE 3510-DS-P